DEPARTMENT OF HEALTH AND HUMAN SERVICES

Centers for Disease Control and Prevention

[Program Announcement 04056]

Sociocultural and Community Risk and Protective Factors for Child Maltreatment and Youth Violence; Notice of Availability of Funds—Amendment

A notice announcing the availability of fiscal year (FY) 2004 funds for a cooperative agreement program to inform violence prevention efforts by testing the extent to which potentially modifiable sociocultural and community risk and protective factors are associated with child maltreatment and early risk factors for youth violence was published in the Federal Register on December 4, 2003, vol. 68, no. 233, pages 67850-67855. The notice is amended as follows: On page 67853, column 1, lines 16-23, delete the section entitled “7. Project Budget.” The project budget information is already included on page four of the PHS 398 application form.

Dated: February 23, 2004.
Sandra R. Manning,
Director, Procurement and Grants Office, Centers for Disease Control and Prevention.

[FR Doc. 04-4347 Filed 2-26-04; 8:45 am]

BILLING CODE 4163-18-P